Title 3—

The President

Proclamation 9789 of September 20, 2018

National POW/MIA Recognition Day, 2018

By the President of the United States of America

A Proclamation

Throughout American history, the men and women of our Armed Forces have selflessly served our country, making tremendous sacrifices to defend our liberty. On National POW/MIA Recognition Day, we honor all American prisoners of war and express our deep gratitude for the courage and determination they exemplified while enduring terrible hardships. We also pay tribute to those who never returned from the battlefield and to their families, who live each day with uncertainty about the fate of their loved ones. These families are entitled to the knowledge that their loved ones still missing and unaccounted for will never be forgotten.

As a Nation, it is our solemn obligation to account for the remains of our fallen American service members and civilians and to bring them home whenever possible. We owe an incalculable debt of gratitude to these patriots who gave their last full measure of devotion for our country. For this reason, I have pledged my Administration's best efforts to account for our country's missing heroes. We continue to work to account for the missing personnel from the Vietnam War. American and partner nation search teams are also working tirelessly in South Korea, Europe, the South Pacific, and elsewhere around the world to recover and identify those who served in World War II, the Korean War, the Cold War, and other past conflicts.

During my meeting with Chairman Kim Jong Un of the Democratic People's Republic of Korea in June, I raised my concern for the thousands of grieving American families whose loved ones remain missing from the Korean War uncertainty. As a result, I secured a commitment from Chairman Kim to recover and repatriate the remains of those Americans who were prisoners of war or killed in action. Last month, we repatriated the remains of some of those courageous service members to American soil. As a result of this homecoming, two of our missing fallen have already been identified, renewing our hope for the fullest possible accounting of the Americans who have yet to be recovered from the Korean War. These recovery efforts are vital to fulfilling our Nation's promise to leave no fellow American behind.

On September 21, 2018, the stark black and white banner symbolizing America's Missing in Action and Prisoners of War will again be flown over the White House; the United States Capitol; the Departments of State, Defense, and Veterans Affairs; the Selective Service System Headquarters; the World War II Memorial; the Korean War Veterans Memorial; the Vietnam Veterans Memorial; United States post offices; national cemeteries; and other locations across the country. We do this, each year, to recognize those who have suffered the horrors of enemy captivity, those who have still not returned from war, and the families who have yet to lay their loved ones to rest with the honor and dignity they deserve.

NOW, THEREFORE, I, DONALD J. TRUMP, President of the United States of America, by virtue of the authority vested in me by the Constitution and the laws of the United States, do hereby proclaim September 21, 2018, as National POW/MIA Recognition Day. I call upon the people of the United States to join me in saluting all American POWs and those missing in action who valiantly served our country. I call upon Federal, State, and local government officials and private organizations to observe this day with appropriate ceremonies and activities.

IN WITNESS WHEREOF, I have hereunto set my hand this twentieth day of September, in the year of our Lord two thousand eighteen, and of the Independence of the United States of America the two hundred and forty-third.

[FR Doc. 2018-21034

Filed 9-24-18; 11:15 am]

Billing code 3295-F8-P